DEPARTMENT OF STATE

[Public Notice: 9512]

Certification Related to the Government of Haiti Under the Department of State, Foreign Operations, and Related Programs Appropriations Act, 2016

Pursuant to the authority vested in the Secretary of State, including under section 7045(c)(2) of the Department of State, Foreign Operations, and Related Programs Appropriations Act, 2016 (Div. K, Pub. L. 114-113), I hereby certify that the Government of Haiti is taking effective steps to:

• Hold free and fair parliamentary elections and seat a new Haitian parliament;

• Strengthen the rule of law in Haiti, including by selecting judges in a transparent manner; respect the independence of the judiciary; and improve governance by implementing reforms to increase transparency and accountability;

• Combat corruption, including by implementing the anti-corruption law enacted in 2014 and prosecuting corrupt officials; and

• Increase government revenues, including by implementing tax reforms, and increase expenditures on public services.

Dated: March 31, 2016.
John F. Kerry,
Secretary of State.

[FR Doc. 2016-08066 Filed 4-6-16; 8:45 am]

BILLING CODE 4710-29-P